ENVIRONMENTAL PROTECTION AGENCY

40 CFR Parts 52 and 81

[CA-282-0389; FRL-7515-4]

Approval and Promulgation of Implementation Plans and Designation of Areas for Air Quality Planning Purposes; 1-Hour Ozone Standard for San Diego, CA

AGENCY: Environmental Protection Agency (EPA).

ACTION: Final rule.

SUMMARY: EPA is taking final action to redesignate the San Diego County area to attainment for the 1-hour ozone National Ambient Air Quality Standard (NAAQS). EPA is also approving a 1-hour ozone maintenance plan and motor vehicle emissions budgets as revisions to the San Diego portion of the California State Implementation Plan (SIP).

EFFECTIVE DATE: This action is effective July 28, 2003.

ADDRESSES: You can inspect copies of the docket for this action during normal business hours at EPA's Region IX office. Please contact John Kelly if you wish to schedule a visit. You can inspect copies of the submitted SIP materials at the following locations:

U.S. EPA, Region IX, 75 Hawthorne Street, San Francisco, CA 94105-3901.

California Air Resources Board, 1001 I Street, Sacramento, California, 95812.

San Diego County Air Pollution Control District, 9150 Chesapeake Drive, San Diego, CA 92123-1096.

The plan is also available electronically at: http://www.sdapcd.co.san-diego.ca.us/reports/RedesigPlan.pdf.

FOR FURTHER INFORMATION CONTACT: John J. Kelly, EPA Region IX, (415) 947-4151, or kelly.johnj@epa.gov.

SUPPLEMENTARY INFORMATION: Throughout this document, “we,” “us,” and “our” refer to EPA.

I. Background

On March 20, 2003 (68 FR 13653-13657), we proposed to redesignate the San Diego County area to attainment for the 1-hour ozone National Ambient Air Quality Standard (NAAQS). We also proposed to approve a 1-hour ozone maintenance plan and motor vehicle emissions budgets as revisions to the San Diego portion of the California State Implementation Plan. The maintenance plan and budgets are contained in the Ozone Redesignation Request and Maintenance Plan for San Diego County, which was adopted December 11, 2002 by the board of the San Diego County Air Pollution Control District (“SDCAPCD”) and submitted by the California Air Resources Board on December 20, 2002.

In our March proposal, we stated that final approval would be contingent upon our affirmative finding that the latest update to California's motor vehicle emissions model, known as EMFAC2002, is acceptable for purposes of SIP development and transportation conformity. On April 1, 2003, we published a Federal Register notice, stating our conclusion that the EMFAC2002 emission factor model is acceptable for use in SIP development and transportation conformity. (68 FRN 15720-15723)

The proposal contains detailed information on the SIP submittal and our evaluation of the submittal against applicable CAA provisions and EPA policies relating to 1-hour ozone maintenance SIPs, redesignations and budgets.

II. Public Comments

We received no public comment on our proposed action.

III. EPA Action

In this document we are finalizing our proposed approval of the Ozone Redesignation Request and Maintenance Plan for San Diego County (December 2002), as meeting applicable provisions for 1-hour ozone maintenance plans, under CAA sections 175A and 110(k)(3). As part of this action, we are finalizing approval for the following specific plan elements. We indicate on which page of our proposal the element is discussed.

(1) Approval of the emissions inventories for 2001, 2005, 2010, and 2014, under CAA section 172(c)(3) and 175A (68 FR 13654).

(2) Approval of the maintenance demonstration through 2014, under CAA section 175A (68 FR 13654).

(3) Approval of the SDCAPCD commitment to continue ambient monitoring of the 1-hour ozone NAAQS, under CAA section 175A (68 FR 13655).

(4) Approval of the SDCAPCD commitment to track progress through annual review of monitoring data for the most recent three consecutive years, to verify continued attainment of the 1-hour ozone NAAQS, under CAA section 175A (68 FR 13655).

(5) Approval of the contingency measures, under CAA section 175A(d) (68 FR 13655).

(6) Approval of the 2010 and 2014 motor vehicle emissions budgets for volatile organic compounds (VOC) and nitrogen oxides (NOX), under CAA sections 176(c)(2), as adequate for maintenance of the 1-hour ozone NAAQS and for transportation conformity purposes (68 FR 13655).

Finally, we are redesignating San Diego County to attainment for the 1-hour ozone standard under CAA section 107(d)(3)(E).

As discussed, we finalize these actions, in view of the fact that in a separate action, we have found that the EMFAC2002 emission factor model is acceptable.

IV. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by August 25, 2003. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Hydrocarbons, Incorporation by reference, Intergovernmental relations, Nitrogen dioxide, Ozone, Reporting and recordkeeping requirements, Volatile organic compounds.

40 CFR Part 81

Environmental protection, Air pollution control, National parks, Wilderness areas.

Dated: June 6, 2003.
Alexis Strauss,
Acting Regional Administrator, Region IX.

Part 52 Chapter I, title 40 of the Code of Federal Regulations is amended as follows:

PART 52—[AMENDED]

1. The authority citation for Part 52 continues to read as follows:

Authority: 42 U.S.C. 7401 et seq.

Subpart F—California

2. Section 52.220 is amended by adding paragraph (c)(313) to read as follows:

§ 52.220 Identification of plan.

* * * * *

(c) * * *

(313) New and amended plan for the following agency was submitted on December 20, 2002, by the Governor's designee.

(i) Incorporation by reference.

(A) San Diego County Air Pollution Control District.

(1) Ozone Redesignation Request and Maintenance Plan for San Diego County, including motor vehicle emissions budgets for 2010 and 2014, Resolution #02-389, adopted on December 11, 2002.

* * * * *

PART 81—[AMENDED]

1. The authority citation for Part 81 continues to read as follows:

Authority: 42 U.S.C. 7401 et seq.

2. In § 81.305, the California Ozone (1-Hour Standard) table is amended by revising the entry for the San Diego area to read as follows:

§ 81.305 California.

* * * * *

California—Ozone (1.-Hour Standard)
Designated area | Designation: Date¹ | Designation: Type | Classification: Date¹ | Classification: Type
* * * * * * *
San Diego Area: San Diego County | 7/28/03 |  | Attainment |
* * * * * * *
¹ This date is November 15, 1990, unless otherwise noted.

* * * * *

[FR Doc. 03-16029 Filed 6-25-03; 8:45 am]

BILLING CODE 6560-50-P